DEPARTMENT OF DEFENSE

Department of the Army; Corps of Engineers

Intent to Prepare a Draft Environmental Impact Statement for the Success Dam Seismic Remediation Project, CA

Correction

In notice document 05-12704 appearing on page 37095 in the issue of Tuesday, June 28, 2005, make the following correction:

In the second column, in section 4. Public Involvement, in the seventh line, the sentence “The public scoping meeting place, data and time will be advertised in the Draft EIS.” should be removed.

[FR Doc. C5-12704 Filed 7-11-05; 8:45 am]

BILLING CODE 1505-01-D